DEPARTMENT OF HEALTH AND HUMAN SERVICES

Administration on Aging

Notice of Intent To Provide Expansion and Capacity Building Funding to the Incumbent Senior Medicare Patrol (SMP) Grantees Under Limited Competition

SUMMARY: The Administration on Aging is announcing the availability of expansion funds for the support of the Senior Medicare Patrol (SMP) Program. This additional funding opportunity will be used to expand the reach of the SMP program with the explicit purpose of expanding current program capacity to recruit, train, and support the SMP volunteer network. In addition, this funding opportunity will increase targeted collaborative efforts with the Centers for Medicare and Medicaid Services, Office of Inspector General and other law enforcement entities in identified high fraud states.

Funding Opportunity Title/Program Name: Health Care Fraud Prevention Program Expansion and SMP Capacity Building Grants.

Announcement Type: Health Care Fraud Prevention Program Expansion Capacity.

Funding Opportunity Number: Program Announcement No. HHS-2012-AoA-SM-1208.

Statutory Authority: HIPAA of 1996 (Pub. L. 104-191).

(Catalog of Federal Domestic Assistance (CFDA) Number: 93.048 Discretionary Projects.)

DATES: The deadline date for comments on this program announcement is April 27, 2012. Other important dates:

• The application due date April 30, 2012.

• The anticipated start date is September 30, 2012.

I. Funding Opportunity Description

During the past several years, the Department of Health and Human Services has increased efforts to fight Medicare and Medicaid fraud. The Administration on Aging (AoA), through the SMP program, has worked in partnership with the Centers for Medicare and Medicaid Services (CMS), the Office of Inspector General (OIG), and the Department of Justice to expand strategies to eliminate waste, fraud, and abuse in these Federal programs. This additional funding opportunity will be used to expand the reach of the SMP program with the explicit purpose of expanding efforts to target collaborative efforts with CMS, OIG and other law enforcement entities in high fraud states and to expand current capacity to recruit, train, and support the SMP volunteer network.

Justification for the Exception to Competition

It is necessary to limit competition for this program to the current SMP grantees to expand their implementation efforts. In order for the outcomes expected to be produced within the allotted timeframe of the program, the infrastructure for achieving these results must already be in place. This infrastructure includes:

• A proven SMP volunteer management, training, and recruiting program;

• Expertise in capturing data in the SMP management, tracking, and reporting system (SMART FACTS);

• Established partnership relationships between the SMP program and state and local fraud control partners, including CMS, OIG, Attorney General, and State Insurance Commissioners offices;

• Developed and tested SMP program public awareness materials, brochures, PSAs, and other resources to use in outreach and educational efforts;

• Expertise and experience in reaching targeted populations with the SMP message, among others.

The current SMP projects are uniquely qualified to address the requirements contained in this funding opportunity. Their established infrastructure and expertise will enable them to successfully meet the challenging and time-sensitive requirements of this program. It is essential that the infrastructure, foundation of expertise, and proven experience is in place to assure the grant objectives are achieved.

II. Award Information

A. Purpose of the Program: Health Care Fraud Prevention Program Expansion.

B. Amount of the Awards: $20,000 to $300,000.

C. Project Period: September 30, 2012-September 29, 2013.

III. Eligible Applicants

Incumbent Senior Medicare Patrol (SMP) grantees.

IV. Evaluation Criteria

A. Project Relevance & Current Need. Weight: 5 points.

B. Approach. Weight: 30 points.

C. Budget. Weight: 10 points.

D. Project Impact. Weight: 30 points.

E. Organizational Capacity. Weight: 25 points.

V. Application and Submission Requirements

A. SF 424—Application for Federal Assistance.

B. SF 424A—Budget Information.

C. Separate Budget Narrative/Justification.

D. SF 424B—Assurances. Note: Be sure to complete this form according to instructions and have it signed and dated by the authorized representative (see item 18d of the SF 424).

E. Lobbying Certification.

F. Program narrative no more than five pages.

G. Work Plan.

H. The application should be submitted through grants.gov using the funding opportunity # HSS-2012-AoA-SM-1208.

VI. Application Review Information

Three independent reviewers external to the Office of Elder Rights will score the applications.

VII. Agency Contact

For further information or comments regarding this program expansion supplement, contact Rebecca Kinney, U.S. Department of Health and Human Services, Administration on Aging, Office of Elder Rights, One Massachusetts Avenue NW., Washington, DC 20001; telephone (202) 357-3520; fax (202) 357-3560; email Rebecca.Kinney@aoa.hhs.gov.

Dated: March 22, 2012.
Kathy Greenlee,
Assistant Secretary for Aging.

[FR Doc. 2012-7469 Filed 3-27-12; 8:45 am]

BILLING CODE 4154-01-P